DEPARTMENT OF ENERGY

Federal Energy Regulatory Commission

18 CFR Part 284

[Docket No. PL00-1-000]

Dialog Concerning Natural Gas Transportation Policies Needed To Facilitate Development of Competitive Natural Gas Markets

March 2, 2001.

AGENCY: Federal Energy Regulatory Commission, Department of Energy.

ACTION: Notice organizing staff conference.

SUMMARY: In Order 637, issued on February 9, 2000, the Federal Energy Regulatory Commission (Commission) revised its regulatory policies, amended its regulations, and established new procedures to enhance the competitiveness and efficiency of markets for the transportation of natural gas in interstate commerce. This notice provides the organizational framework for the second of three public staff conferences in a dialog between the industry and Commission staff. This conference focuses on affiliate issues.

EFFECTIVE DATE: The conference will take place on March 15, 2001, starting at 1 p.m. Persons wishing to submit further comments following the conclusion of the conference must submit them by April 30, 2001.

ADDRESSES: Federal Energy Regulatory Commission, 888 First Street, NE., Washington, DC 20426.

FOR FURTHER INFORMATION CONTACT: Robert A. Flanders, Office of Markets, Tariffs and Rates, Federal Energy Regulatory Commission, 888 First Street, NE., Washington, DC 20426, (202) 208-2084, e-mail: Robert.Flanders@ferc.fed.us

Notice Organizing Staff Conference on Competitive Natural Gas Markets

This notice provides the organizational format for the Federal Energy Regulatory Commission staff conference to be held on March 15, 2001 to discuss how the changes in the natural gas market affect the way in which the Commission should regulate transportation transactions between pipelines and their affiliates, as well as between pipeline capacity holders and their affiliates, capacity managers and agents. The purpose of this conference is to continue the dialog begun with the September 19, 2000 staff conference to enable the industry to discuss with staff, as well as with each other, issues relating to the development of Commission policy and regulatory responses to rate and service revisions to meet the needs of the changing natural gas market. The conference will begin at 1:00 p.m. at the Commission's offices, 888 First Street, NE., Washington, DC in the Commission's Meeting Room.

The November 22, 2000 notice ¹ of the conference requested those who were interested in making presentations or participating to indicate their interest by January 5, 2001. Sixteen requests to participate in the roundtable debate were made and comments from twenty-six interested persons were received.

¹ 65 FR 75627 (Dec. 4, 2000).

The conference will be structured as a roundtable debate with staff as moderator. Panel participants are identified below. In order to facilitate a robust discussion of the affiliate issues identified in the November 22, 2000 notice, a roundtable debate format was selected. Accordingly, participants will not have the opportunity to make oral presentations. Interested persons have already had the opportunity to submit written comments reflecting their positions, and, as discussed below, are invited to submit additional comments. Participants should feel free to discuss or debate all topics during the course of the roundtable debate.

The composition of the roundtable panel is as follows:

Dena Wiggins, Process Gas Consumers Group, et al.

Representative to be designated, Ad Hoc Marketers Group

Thomas Riley, Independent Oil & Gas Assoc. of West Virginia

Alice Curtis, American Gas Association

Craig Goodman, National Energy Marketers Assoc.

Joan Dreskin, Interstate Natural Gas Assoc. of America

Jeff Holligan, Amoco Production Company and BP Energy Company

Denise Goulet, National Assoc. of State Utility Consumer Advocates

John Smith, The Williams Companies

Mark Haskell, Natural Gas Supply Assoc.

Leslie Lawner, Enron North America Corporation

Paul Koonce, Dominion Resources, Inc.

Michael Linn, Independent Petroleum Assoc. of America

Ed Ross, Dynegy, Inc.

Phillip Teumim, New York Public Service Commission

Kirby Bosley, Reliant Energy Services, Inc.

Mike Reidy, California Dairy Coalition of Concerned Energy Consumers

The Capitol Connection patrons in the Washington, DC area will receive notices regarding the broadcast of the conference. The conference will be available, for a fee, live over the Internet, via C-Band Satellite, and via telephone conferencing. Persons interested in receiving the broadcast, or who need further information, should contact David Reininger or Julia Morelli at the Capitol Connection (703-993-3100) as soon as possible or visit the Capitol Connection web site at http://www.capitolconnection.org and click on “FERC.”

The Commission invites interested persons and participants to submit additional comments on the affiliate issues debated at the conference including any related matters or alternative proposals that commenters may wish to discuss and must be received by the Commission before 5 p.m. on April 30, 2001.

After-conference comments may be filed either in paper format or electronically. Those filing electronically do not need to make a paper filing. For paper filings, the original and 14 copies of such comments should be submitted to the Office of the Secretary, Federal Energy Regulatory Commission, 888 First Street, NE., Washington, DC 20426 and should refer to Docket No. PL00-1-000.

Comments filed via the Internet must be prepared in WordPerfect, MS Word, Portable Document Format, or ASCII format. To file the document, access the Commission's website (www.ferc.fed.us) and click on “Make An E-Filing,” and then follow the instructions for each screen. First-time users will have to establish a user name and password. The Commission will send an automatic acknowledgment to the sender's E-Mail address upon receipt of comments.

User assistance for electronic filing is available at 202-208-0258 or by E-Mail to efiling@ferc.fed.us. Comments should not be submitted to the E-Mail address. All comments will be placed in the Commission's public files and will be available for inspection in the Commission's Public Reference Room at 888 First Street, NE., Washington, DC 20426 during regular business hours. Additionally, all comments may be viewed, printed, or downloaded remotely via the Internet through FERC's Homepage using the RIMS link. User assistance for RIMS is available at 202-208-2222, or by E-Mail to rimsmaster@ferc.fed.us.

Questions about the conference should be directed to: Robert Flanders, Office of Markets Tariffs and Rates, Federal Energy Regulatory Commission, 888 First Street, NE., Washington, DC 20426, 202-208-2084, Robert.flanders@ferc.fed.us

Linwood A. Watson,
Acting Secretary.

[FR Doc. 01-5518 Filed 3-6-01; 8:45 am]

BILLING CODE 6717-01-M